DEPARTMENT OF ENERGY

Federal Energy Regulatory Commission

[Project No. 14851-003]

White Pine Waterpower, LLC; Notice of Revised Schedule for White Pine Pumped Storage Project

This notice revises the Federal Energy Regulatory Commission's (Commission) schedule for processing White Pine Waterpower, LLC's license application for the White Pine Pumped Storage Project. A prior notice issued on November 15, 2023, identified an anticipated schedule for issuance of draft and final National Environmental Policy Act (NEPA) documents and a final order for the project. After the issuance of that notice, White Pine Waterpower, LLC requested an extension of time to complete its hydrogeologic study with a final study report to be filed by January 31, 2026. Commission staff issued a letter approving the extension of time on February 26, 2025. To account for the additional time needed for White Pine Waterpower, LLC to complete the study and file the study report, the application will be processed according to the following revised schedule.

Notice of Ready for Environmental Analysis: April 2026

Draft NEPA Document: January 2027

Final NEPA Document: July 23, 2027

In addition, in accordance with title 41 of the Fixing America's Surface Transportation Act, enacted on December 4, 2015, agencies are to publish completion dates for all federal environmental reviews and authorizations. This notice identifies the Commission's anticipated schedule for issuance of the final order for the project, which is based on the revised issuance date for the final NEPA document. Accordingly, we currently anticipate issuing a final order for the project no later than:

Issuance of Final Order: October 21, 2027

If a schedule change becomes necessary, an additional notice will be provided so that interested parties and government agencies are kept informed of the project's progress.

Dated: March 3, 2025.
Debbie-Anne A. Reese,
Secretary.

[FR Doc. 2025-03704 Filed 3-6-25; 8:45 am]

BILLING CODE 6717-01-P